ENVIRONMENTAL PROTECTION AGENCY

[FRL-6861-1]

Agency Information Collection Activities OMB Responses

AGENCY: Environmental Protection Agency (EPA).

ACTION: Notices.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR Chapter 15.

FOR FURTHER INFORMATION CONTACT: Sandy Farmer at 260-2740, or email at Farmer.sandy@epa.gov, and please refer to the appropriate EPA Information Collection Request (ICR) Number.

SUPPLEMENTARY INFORMATION:

OMB Responses to Agency Clearance Requests

OMB Approvals

EPA ICR No. 1894.02; Recordkeeping and Reporting Requirements for the Secondary Aluminum Production—NESHAP; in 40 CFR part 63.9, 63.10 and 63.1500; was approved 07/14/2000; OMB No. 2060-0433; expires 07/31/2003.

EPA ICR No. 1093.06; NSPS for Surface Coating of Plastic Parts for Business Machines; in 40 CFR part 60, subpart TTT; was approved 07/25/2000; OMB No. 2060-0162; expires 07/31/2003.

EPA ICR No. 1160.06; NSPS for Wool Fiberglass Insulation Manufacturing Plants; in 40 CFR part 60, subpart PPP, and NESHAP-MACT-Wool Fiberglass Manufacturing Plants; in 40 CFR part 63, subpart NNN; was approved 07/25/2000; OMB No. 2060-0114; expires 07/31/2003. This ICR represents a consolidation of activities previously covered by OMB numbers 2060-0114 and 2060-0359.

EPA ICR No. 1560.06; National Water Quality Inventory Reports (TMDL) Final Rule—Clean Water Act Section 305(b), 303(d), 314(a), and 106(a); in 40 CFR part 130.10; was approved 07/10/2000; OMB No. 2040-0071; expires 07/31/2003.

EPA ICR No. 0276.10; Application for Experimental Use Permit (EUP) to Ship and Use a Pesticide for Experimental Purposes Only; in 40 CFR part 172; was approved 06/23/2000; OMB No. 2070-0040; expires 08/31/2000.

EPA ICR No. 1949.01, Performance Track Program Level One: The Environmental Achievement Track; was approved 06/23/2000; OMB No. 2010-0032; expires 06/30/2003.

Withdrawn and Continued

EPA ICR No. 0877.07; Environmental Radiation Ambient Monitoring System (ERAMS), OMB No. 2060-0015; was withdrawn and continued on 06/26/2000.

Action Withdrawn

EPA ICR No. 1911.01; Data Acquisition for Anticipated Residue and Percent Crop Treated; this ICR was withdrawn from OMB 07/14/2000.

Comments Filed

EPA ICR No. 1656.08; Risk Management Program Requirements and Petitions to Modify the List of Regulated Substances (Proposed Rule for Distribution of Off-site Consequence Analysis Information) under the Clean Air Act, Section 112(r); on 07/24/2000 OMB filed comment.

EPA ICR No. 1246.07; Reporting and Recordkeeping for Asbestos Abatement Worker Protection (Proposed Rule: State and Local Amendments); on 07/20/2000 OMB filed comment.

Short Term Extensions

EPA ICR No. 1442.16; Land Disposal Restriction (LDR) Phase IV: Treatment Standards for Wastes from Toxicity Characteristic Metals, Mineral Processing Secondary Materials and the Exclusion of Recycled Wood; in 40 CFR parts 268.7, 268.40 and 268.44; OMB No. 2050-0085; on 07/24/2000 OMB extended the expiration date through 10/31/2000.

EPA ICR No. 1572.04; Hazardous Waste Specific Unit Requirements, and Special Waste processes and Types; in 40 CFR parts 261, 264, 265, and 266, subpart F; OMB No. 2050-0050; on 06/21/2000 OMB extended the expiration date through 09/30/2000.

EPA ICR No. 1725.02; Marine Engine Manufacturers Production Line Testing Reporting and Recordkeeping Requirements; in 40 CFR part 91; OMB No. 2060-0323; on 07/12/2000 OMB extended the expiration date through 12/31/2000.

EPA ICR No. 1799.01; NESHAP for Recordkeeping and Reporting Requirements for the Mineral Wool Production; in 40 CFR part 63, subpart A and subpart DDD; OMB No. 2060-0362; on 07/18/2000 OMB extended the expiration date through 10/31/2000.

EPA ICR No. 1080.09; NESHAP for Benzene Emissions from Benzene Storage Vessels, and Coke By-Product Recovery Plants; in 40 CFR part 61, subparts L, and Y; OMB No. 2060-0185; on 07/27/2000 OMB extended the expiration date through 01/31/2001.

EPA ICR No. 1432.17; Recordkeeping and Periodic Reporting of the Production, Import, of Ozone-Depleting Substances; OMB No. 2060-0170; on 07/27/2000 OMB extended the expiration date through 01/31/2001.

EPA ICR No. 1726.02; Marine Engine Manufacturer In-Use Emissions Testing Program; in 40 CFR part 91, subpart I, OMB No. 2060-0322; on 07/12/2000 OMB extended the expiration date through 12/31/2000.

EPA ICR No. 0794.08; Notification of Substantial Risk of Injury to Health and the Environment under TSCA Section 8(e); OMB No. 2070-0046; on 06/22/2000 OMB extended the expiration date through 09/30/2000.

EPA ICR No. 1780.01; Voluntary Cover Sheet for TSCA Submissions; OMB No. 2070-0156; on 06/22/2000 OMB extended the expiration date through 09/30/2000.

EPA ICR No. 0922.05; Data Call-In for Special Review Chemicals; in 40 CFR parts 155, 158, and 160; OMB No. 2070-0057; on 06/29/2000 OMB extended the expiration date through 09/30/2000.

EPA ICR No. 1001.06; Polychlorinated Biphenyls (PCBS Exclusions, Exemptions, and Use Authorizations; in 40 CFR part 761; OMB No. 2070-0008; on 07/12/2000 OMB extended the expiration date through 11/30/2000.

Dated: August 25, 2000.
Oscar Morales,
Director, Collection Strategies Division.

[FR Doc. 00-22164 Filed 8-29-00; 8:45 am]

BILLING CODE 6560-50-P